ENVIRONMENTAL PROTECTION AGENCY

[EPA-HQ-RCRA-2015-0278; FRL-9933-67-OEI]

Information Collection Request Submitted to OMB for Review and Approval; Comment Request; Criteria for Classification of Solid Waste Disposal Facilities and Practices (Renewal)

AGENCY: Environmental Protection Agency (EPA).

ACTION: Notice.

SUMMARY: The Environmental Protection Agency has submitted an information collection request (ICR), “Criteria for Classification of Solid Waste Disposal Facilities and Practices (Renewal)” (EPA ICR No. 1745.08, OMB Control No. 2050-0154) to the Office of Management and Budget (OMB) for review and approval in accordance with the Paperwork Reduction Act (44 U.S.C. 3501 et seq.). This is a proposed extension of the ICR, which is currently approved through September 30, 2015. Public comments were previously requested via the Federal Register (80 FR 34154) on June 15, 2015 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before October 21, 2015.

ADDRESSES: Submit your comments, referencing Docket ID No. EPA-HQ-RCRA-2015-0278, to (1) EPA online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Craig Dufficy, Materials Recovery and Waste Management Division, Office of Resource Conservation and Recovery, mailcode 5304P, Environmental Protection Agency, 1200 Pennsylvania Ave. NW., Washington, DC 20460; telephone number: 703-308-9037; fax number: 703-308-8686; email address: Dufficy.craig@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: In order to effectively implement and enforce final changes to 40 CFR part 257—Subpart B on a State level, owners/operators of construction and demolition waste landfills that receive CESQG hazardous wastes will have to comply with the final reporting and recordkeeping requirements. This continuing ICR documents the recordkeeping and reporting burdens associated with the location and ground-water monitoring provisions contained in 40 CFR part 257—Subpart B.

Form Numbers: None.

Respondents/affected entities: Private solid waste disposal facilities and State, Local, or Tribal governments.

Respondent's obligation to respond: Mandatory under Section 4010(c) and 3001(d)(4) of the Resource Conservation and Recovery Act (RCRA) of 1976.

Estimated number of respondents: 142.

Frequency of response: On occasion.

Total estimated burden: 11,219 hours (per year). Burden is defined at 5 CFR 1320.03(b).

Total estimated cost: $2,108,037 (per year), includes $1,577,659 annualized capital or operation & maintenance costs.

Changes in the Estimates: There is a decrease of 1 hour in the total estimated respondent burden compared with the ICR currently approved by OMB. This change is due to rounding and a decrease of 10 responses anticipated in the next three years.

Courtney Kerwin,
Acting Director, Collection Strategies Division.

[FR Doc. 2015-23548 Filed 9-18-15; 8:45 am]

BILLING CODE 6560-50-P